DEPARTMENT OF COMMERCE

National Oceanic and Atmospheric Administration

RIN 0648-XD043

Pacific Fishery Management Council; Online Webinar

AGENCY: National Marine Fisheries Service (NMFS), National Oceanic and Atmospheric Administration (NOAA), Commerce.

ACTION: Notice of online webinar.

SUMMARY: The Pacific Fishery Management Council's (Pacific Council's) Groundfish Endangered Species Work Group (ESWG) will hold an online webinar to orient members of this newly-formed committee, and to discuss future workload and process issues. The webinar is open to the public.

DATES: The ESWG webinar will commence at 9 a.m. PST, Thursday, January 23, 2014 and continue until noon, or as necessary to complete business for the day.

ADDRESSES: To attend the ESWG webinar, please join online at https://www.joinwebinar.com and enter the webinar ID: 628-107-399, as well as your name and email address. Once you have joined the webinar, choose either your computer's audio or select “Use Telephone.” To join the audio teleconference using a telephone, call the toll number 1-619-550-0004 and enter 628-107-399 when prompted for the audio code. If you do not select “Use Telephone,” you will be connected to audio using your computer's microphone and speakers (VolP). A headset is recommended. System requirements for PC-based attendees: Windows 7, Vista, or XP; for Mac-based attendees: Mac OS X 10.5 or newer; and for mobile attendees: iPhone, iPad, Android phone, or Android tablet (see the GoToMeeting Webinar Apps). If you experience technical difficulties and would like assistance, please contact Mr. Kris Kleinschmidt at 503-820-2280. Public comments during the webinar will be received from attendees at the discretion of the ESWG Chair.

FOR FURTHER INFORMATION CONTACT: Mr. Chuck Tracy, Pacific Council; telephone: (503) 820-2280.

SUPPLEMENTARY INFORMATION: The specific objectives of the ESWG webinar are to introduce the members to each other, elect officers, review the ESWG terms of reference, and set out expectations for future work and how that work will be accomplished. No management actions will be decided in this webinar.

Although non-emergency issues not identified in the webinar agenda may come before the webinar participants for discussion, those issues may not be the subject of formal action during this webinar. Formal action at the webinar will be restricted to those issues specifically listed in this notice and any issues arising after publication of this notice that require emergency action under Section 305(c) of the Magnuson-Stevens Fishery Conservation and Management Act, provided the public has been notified of the webinar participants' intent to take final action to address the emergency.

Special Accommodations

This meeting is physically accessible to people with disabilities. Requests for auxiliary aids should be directed to Mr. Kris Kleinschmidt at (503) 820-2280 at least 5 days prior to the webinar date.

Dated: December 31, 2013.
William D. Chappell,
Acting Deputy Director, Office of Sustainable Fisheries, National Marine Fisheries Service.

[FR Doc. 2013-31532 Filed 1-3-14; 8:45 am]

BILLING CODE 3510-22-P